SMALL BUSINESS ADMINISTRATION

Public Federal Regulatory Enforcement Fairness Hearing; Region X Regulatory Fairness Board

The U.S. Small Business Administration (SBA) Region X Regulatory Fairness Board and the SBA Office of the National Ombudsman will hold a public hearing on Friday, August 18, 2006, at 9 a.m. The meeting will take place at the Z.J. Loussac Library, 3600 Denali Street, Anchorage, AK 99503. The purpose of the meeting is to receive comments and testimony from small business owners, small government entities, and small non-profit organizations concerning regulatory enforcement and compliance actions taken by Federal agencies.

Anyone wishing to attend or to make a presentation must contact Sam Dickey, in writing or by fax, in order to be put on the agenda. Sam Dickey, Deputy District Director, SBA, 510 L Street, Suite 310, Anchorage, AK, phone (907) 271-4844 and fax (907) 271-4545, E-mail: Sam.dickey@sba.gov.

For more information, see our Web site at http://www.sba.gov/ombudsman.

Thomas M. Dryer,
Acting Committee Management Officer.

[FR Doc. E6-13215 Filed 8-10-06; 8:45 am]

BILLING CODE 8025-01-P